NATIONAL AERONAUTICS AND SPACE ADMINISTRATION

[Notice: (19-066)]

NASA Advisory Council; Meeting.

AGENCY: National Aeronautics and Space Administration.

ACTION: Notice of meeting.

SUMMARY: In accordance with the Federal Advisory Committee Act, as amended, the National Aeronautics and Space Administration (NASA) announces a meeting of the NASA Advisory Council (NAC).

DATES: Thursday, October 31, 2019, 10:30 a.m.-5:00 p.m.; and Friday, November 1, 2019, 8:30 a.m.-12:00 noon, Eastern Time.

ADDRESSES: NASA Kennedy Space Center, Headquarters Building, Conference Room 7212, Kennedy Space Center, Florida 32899.

FOR FURTHER INFORMATION CONTACT: Ms. Marcia Joseph, NAC Administrative Officer, NASA Headquarters, Washington, DC 20546, (202) 358-4717 or marcia.joseph@nasa.gov.

SUPPLEMENTARY INFORMATION: This meeting will be open to the public up to the capacity of the meeting room. This meeting is also available telephonically and by WebEx. You must use a touch-tone phone to participate in this meeting. Any interested person may dial the toll-free number 1-888-324-3866 or toll number 1-517-308-9316 and then the numeric passcode 5441938, followed by the # sign, on both days. NOTE: If dialing in, please “mute” your phone. To join via WebEx, the link is https://nasaenterprise.webex.com/. The meeting number on October 31 is 903 420 221 and the meeting password is NAC31oct19! (case sensitive); the meeting number on November 1 is 902 236 617 and the meeting password is NAC1nov19! (case sensitive).

The agenda for the meeting will include reports from the following:

— Aeronautics Committee

— Human Exploration and Operations Committee

— Regulatory and Policy Committee

— Science Committee

— STEM Engagement Committee

— Technology, Innovation and Engineering Committee

Attendees will be requested to sign a register and to comply with NASA Kennedy Space Center security requirements, including the presentation of a valid picture ID to NASA Security before access to NASA Kennedy Space Center. To attend the meeting in person, attendees that are U.S. citizens and Permanent Residents (green card holders) are requested to provide full name and citizenship status no less than 3 working days prior to the meeting. Foreign nationals attending this meeting will be required to provide a copy of their passport and visa in addition to providing the following information no less than 15 days prior to the meeting: Full name; gender; date/place of birth; citizenship; passport information (number, country, telephone); visa information (number, type, expiration date); employer/affiliation information (name of institution, address, country, telephone); title/position of attendee. Information should be sent to Ms. Marcia Joseph via email at marcia.joseph@nasa.gov. It is imperative that the meeting be held on these dates to accommodate the scheduling priorities of the key participants.

Patricia Rausch,
Advisory Committee Management Officer, National Aeronautics and Space Administration.

[FR Doc. 2019-22337 Filed 10-11-19; 8:45 am]

BILLING CODE 7510-13-P